DEPARTMENT OF COMMERCE

International Trade Administration

[A-570-016]

Certain Passenger Vehicle and Light Truck Tires From the People's Republic of China: Final Results of Antidumping Duty Administrative Review and Final Determination of No Shipments; 2015-2016

AGENCY: Enforcement and Compliance, International Trade Administration, Department of Commerce.

SUMMARY: The Department of Commerce (Commerce) determines that Giti Tire Global Trading Pte. Ltd. (Giti) and its affiliates as well as Qingdao Sentury Tire Co., Ltd. (Sentury) and its affiliates, manufacturers/exporters of certain passenger vehicle and light truck tires (passenger tires) from the People's Republic of China (China), sold subject merchandise in the United States at prices below normal value (NV) during the period of review (POR) January 27, 2015, through July 31, 2016.

DATES: Applicable March 16, 2018.

FOR FURTHER INFORMATION CONTACT: Toni Page, Lingjun Wang, or Jun Jack Zhao, AD/CVD Operations, Office VII, Enforcement and Compliance, International Trade Administration, U.S. Department of Commerce, 1401 Constitution Avenue NW, Washington, DC 20230; telephone: (202) 482-1398, (202) 482-2316, or (202) 482-1396, respectively.

SUPPLEMENTARY INFORMATION:

Background

Commerce published the preliminary results of this administrative review of passenger tires from China on September 7, 2017.¹ We verified Sentury and its U.S. affiliate from December 11 through 15, 2017, and December 20 through 22, 2017. We invited interested parties to comment on the Preliminary Results. On January 3, 2017, Commerce postponed the final results of review until March 6, 2018. Between February 5 and 12, 2018, Commerce received timely filed briefs and rebuttal briefs from various interested parties. Based on an analysis of the comments received, Commerce has made changes to the weighted-average dumping margins determined for respondents. The weighted-average dumping margins are listed in the “Final Results of Administrative Review” section below.

¹ See Certain Passenger Vehicle and Light Truck Tires from the People's Republic of China: Preliminary Results of Antidumping Duty Administrative Review, Preliminary Determination of No Shipments, and Rescission, in Part; 2015-2016, 82 FR 42281, (September 7, 2017) and accompanying preliminary decision memorandum (Preliminary Decision Memorandum) (Preliminary Results).

Commerce exercised its discretion to toll all deadlines affected by the closure of the Federal Government from January 20 through 22, 2018. If the new deadline falls on a non-business day, in accordance with Commerce's practice, the deadline will become the next business day. The revised deadline for the final results of this review is now March 9, 2018.²

² See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Scope of the Order

The scope of the order is passenger vehicle and light truck tires. Passenger vehicle and light truck tires are new pneumatic tires, of rubber, with a passenger vehicle or light truck size designation.³ Merchandise covered by this order is classifiable under subheadings 4011.10.10.10, 4011.10.10.20, 4011.10.10.30, 4011.10.10.40, 4011.10.10.50, 4011.10.10.60, 4011.10.10.70, 4011.10.50.00, 4011.20.10.05, 4011.20.50.10, 4011.99.45.10, 4011.99.45.50, 4011.99.85.10, 4011.99.85.50, 8708.70.45.45, 8708.70.45.60, 8708.70.60.30, 8708.70.60.45, and 8708.70.60.60 of the Harmonized Tariff Schedule of the United States (HTSUS). Although the HTSUS subheadings are provided for convenience and customs purposes, our written description of the scope of the order is dispositive.

³ For a complete description of the scope of the order, see “Certain Passenger Vehicle and Light Truck Tires from the People's Republic of China: Issues and Decision Memorandum for the Final Results of the 2015-2016 Antidumping Administrative Review,” (dated concurrently with, and hereby adopted by, this notice) (Issues and Decision Memorandum).

Analysis of Comments Received

All issues raised in the case and rebuttal briefs are addressed in the accompanying Issues and Decision Memorandum.⁴ The issues are identified in Appendix I to this notice. The Issues and Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Issues and Decision Memorandum can be accessed directly on the internet at http://trade.gov/enforcement/frn/index.html. The signed Issues and Decision Memorandum and electronic versions of the Issues and Decision Memorandum are identical in content.

⁴ See Issues and Decision Memorandum at “Scope of the Order” section.

Affiliation and Single Entity Determination

In the Preliminary Results Commerce continued to find, based on its finding in the investigation of this proceeding, that Giti, Giti Tire (USA) Ltd. (Giti USA); Giti Radial Tire (Anhui) Company Ltd. (Giti Radial Anhui); Giti Tire (Fujian) Company Ltd. (Giti Fujian); and Giti Tire (Hualin) Company Ltd. (Giti Hualin) are affiliated exporters/manufacturers of subject merchandise and should be treated as a single entity (the Giti Entity) for purposes of this review.⁵ No interested party has disputed this treatment, and so these findings remain unchanged for these final results. Commerce stated in the Preliminary Results that we would analyze whether to collapse (i.e., treat as a single entity) Giti with its other affiliated producers Giti Tire Greatwall Company, Ltd. (Giti Greatwall), Giti Tire (Anhui) Company, Ltd. (Giti Anhui), Giti Tire (Yinchuan) Company, Ltd. (Giti Yinchuan), and Giti Tire (Chongqing) Company, Ltd. (Giti Chongqing) after the preliminary results.⁶ For these final results, Commerce finds that Giti is also affiliated with Giti Greatwall, Giti Anhui, Giti Yinchuan, and Giti Chongqing pursuant to section 771(33)(E) of the Act, and that the four producers are affiliated with each other, pursuant to section 771(33)(F) of the Act. Additionally, Commerce finds that it is appropriate to collapse these entities with the Giti Entity, pursuant to 19 CFR 351.401(f). The proprietary discussion of Commerce's decision is included in a separate memorandum.⁷

⁵ See Preliminary Results PDM at 11-12.

⁶ Id. at 12.

⁷ See Commerce Memorandum, “Administrative Review of Certain Passenger Vehicle and Light Truck Tires from the People's Republic of China: Collapsing of Giti Tire Global Trading Pte. Ltd. and Affiliated Producers,” (dated concurrently with the instant notice).

Final Determination of No Shipments

In the Preliminary Results, Commerce determined Highpoint Trading, Ltd.; Federal Tire (Jiangxi), Ltd.; Federal Corporation; Weihai Ping'an Tyre Co., Ltd.; Qingdao Free Trade Zone Full-World International Trading Co., Ltd.; Seatex PTE. Ltd.; Wendeng Sanfeng Tyre Co., Ltd.; Shandong Hawk International Rubber Industry Co., Ltd.; Qingdao Honghua Tyre Factory (Honghua); and Zenith Holding (HK) Limited each had no shipments during the POR.⁸ As we have not received any information to contradict our preliminary finding, we determine that these entities did not have any shipments of subject merchandise during the POR. We will issue appropriate instructions that are consistent with our “automatic assessment” clarification, for these final results.⁹

⁸ See Preliminary Results at 82 FR 42282.

⁹ See Non-Market Economy Antidumping Proceedings: Assessment of Antidumping Duties, 76 FR 65694, 65694-95 (October 24, 2011) (Assessment Notice); see also “Assessment Rates” section of this notice.

Separate Rates

In the Preliminary Results, we found that evidence provided by Giti, Sentury, and 63 other exporters supported finding an absence of both de jure and de facto government control, and, therefore, we preliminarily granted a separate rate to each of these companies.¹⁰ We received no information since the issuance of the Preliminary Results that provides a basis for reconsidering these determinations with respect to the separate rate status of the 65 entities. Therefore, for the final results, we continue to find that these entities are eligible for separate rates.

¹⁰ Id. at 42283-42284; see also Preliminary Results PDM at Appendix 1.

In addition, Commerce inadvertently listed Haohua Orient International Trade Ltd. and Nankang (Zhangjiagang Free Trade Zone) Rubber Industrial Co., Ltd as both qualifying for and not qualifying for separate rate status.¹¹ We clarify that we find both companies are eligible for separate rates and Appendix II below has been corrected for these final results.

¹¹ See Preliminary Results at 82 FR 42283-42284 and Appendix 1; see also Preliminary Results PDM at Appendices 1 and 2.

Further, Commerce continues to find that the remaining entities listed as not qualifying for separate rates have failed to demonstrate an absence of de jure and/or de facto government control, and, thus, are not eligible for separate rates. A list of entities that are not entitled to separate rate status for this administrative review are included in Appendix II of this notice.

Adjustments for Export Subsidies and Double-Remedies

Pursuant to section 772(c)(1)(C) of the Act, Commerce has granted an export subsidy adjustment to Giti and Sentury. In addition, pursuant to sections 777A(f)(1)(A)-(C) of the Act, Commerce has granted a double-remedy adjustment to Giti and Sentury for these final results. The antidumping duty rate assigned to the non-examined exporters which qualify for a separate rate reflects the export subsidy and double-remedy adjustments granted to the mandatory respondents.

Final Results of Review

Commerce finds that the following weighted-average dumping margins exist for the POR:

Exporter | Weighted-average dumping margin (percent)
Giti Tire Global Trading Pte. Ltd./Giti Tire (USA) Ltd./Giti Radial Tire (Anhui) Company Ltd./ ¹² Giti Tire (Fujian) Company Ltd./Giti Tire (Hualin) Company Ltd./Giti Tire Greatwall Company, Ltd./Giti Tire (Anhui) Company, Ltd./Giti Tire (Yinchuan) Company, Ltd./Giti Tire (Chongqing) Company, Ltd | 1.50
Qingdao Sentury Tire Co., Ltd/Sentury Tire USA Inc./Sentury (Hong Kong) Trading Co., Limited | 4.41
Actyon Tyre Resources Co., Limited | 2.96
Shandong Anchi Tyres Co., Ltd | 2.96
Briway Tire Co., Ltd | 2.96
Shandong Changfeng Tyres Co., Ltd | 2.96
Qingdao Crown Chemical Co., Ltd | 2.96
Crown International Corporation | 2.96
Qingzhou Detai International Trading Co., Ltd | 2.96
Shandong Duratti Rubber Corporation Co. Ltd | 2.96
Shouguang Firemax Tyre Co., Ltd | 2.96
Fleming Limited | 2.96
Qingdao Fullrun Tyre Corp., Ltd | 2.96
Qingdao Fullrun Tyre Tech Corp., Ltd | 2.96
Guangrao Taihua International Trade Co., Ltd | 2.96
Shandong Guofeng Rubber Plastics Co., Ltd | 2.96
Hankook Tire China Co., Ltd | 2.96
Haohua Orient International Trade Ltd | 2.96
Shandong Hengyu Science & Technology Co., Ltd | 2.96
Hongkong Tiancheng Investment & Trading Co., Limited | 2.96
Hongtyre Group Co | 2.96
Jiangsu Hankook Tire Co., Ltd | 2.96
Jinyu International Holding Co., Limited | 2.96
Qingdao Jinhaoyang International Co., Ltd | 2.96
Jilin Jixing Tire Co., Ltd | 2.96
Kenda Rubber (China) Co., Ltd | 2.96
Qingdao Keter International Co., Limited | 2.96
Koryo International Industrial Limited | 2.96
Kumho Tire Co., Inc | 2.96
Qingdao Lakesea Tyre Co., Ltd | 2.96
Liaoning Permanent Tyre Co., Ltd | 2.96
Shandong Longyue Rubber Co., Ltd | 2.96
Macho Tire Corporation Limited | 2.96
Maxon Int'l Co., Limited | 2.96
Mayrun Tyre (Hong Kong) Limited | 2.96
Qingdao Nama Industrial Co., Ltd | 2.96
Nankang (Zhangjiagang Free Trade Zone) Rubber Industrial Co., Ltd | 2.96
Shandong New Continent Tire Co., Ltd | 2.96
Qingdao Odyking Tyre Co., Ltd | 2.96
Prinx Chengshan (Shandong) Tire Co., Ltd | 2.96
Riversun Industry Limited | 2.96
Roadclaw Tyre (Hong Kong) Limited | 2.96
Safe & Well (HK) International Trading Limited | 2.96
Sailun Jinyu Group Co., Ltd | 2.96
Sailun Jinyu Group (Hong Kong) Co., Limited | 2.96
Shandong Jinyu Industrial Co., Ltd | 2.96
Sailun Tire International Corp | 2.96
Seatex International Inc | 2.96
Dynamic Tire Corp | 2.96
Husky Tire Corp | 2.96
Shandong Province Sanli Tire Manufactured Co., Ltd | 2.96
Shandong Linglong Tyre Co., Ltd | 2.96
Shandong Yonking Rubber Co., Ltd | 2.96
Shandong Shuangwang Rubber Co., Ltd | 2.96
Shengtai Group Co., Ltd | 2.96
Techking Tires Limited | 2.96
Triangle Tyre Co., Ltd | 2.96
Tyrechamp Group Co., Limited | 2.96
Shandong Wanda Boto Tyre Co., Ltd | 2.96
Windforce Tyre Co., Limited | 2.96
Winrun Tyre Co., Ltd | 2.96
Shandong Yongtai Group Co., Ltd | 2.96
Weihai Zhongwei Rubber Co., Ltd | 2.96
Shandong Zhongyi Rubber Co., Ltd | 2.96
Zhaoqing Junhong Co., Ltd | 2.96

Assessment Rates

¹² In the Preliminary Results, Commerce inadvertently listed “Giti Radial Tire (Anhui) Company Ltd.” as “Giti Tire (Anhui) Company Ltd.” The name is corrected for these final results.

Pursuant to section 751(a)(2)(C) of the Act, and 19 CFR 351.212(b)(1), Commerce has determined, and CBP shall assess, antidumping duties on all appropriate entries of subject merchandise, where applicable, in accordance with the final results of this review. Commerce intends to issue assessment instructions to CBP 15 days after the date of publication of these final results of review.¹³ For each individually examined respondent in this review whose weighted-average dumping margin is not zero or de minimis (i.e., less than 0.5 percent), Commerce calculated importer-specific assessment rates, in accordance with 19 CFR 351.212(b)(1).¹⁴ Where the respondent reported reliable entered values, Commerce calculated importer-specific ad valorem assessment rates by aggregating the amount of dumping calculated for all U.S. sales to the importer, and dividing this amount by the total entered value of the sales to the importer.¹⁵ Where the importer did not report entered values, Commerce calculated an importer-specific assessment rate by dividing the amount of dumping for reviewed sales to the importer by the total sales quantity associated with those transactions. Where an importer-specific ad valorem assessment rate is not zero or de minimis, Commerce will instruct CBP to collect the appropriate duties at the time of liquidation. Where either the respondent's weighted average dumping margin is zero or de minimis, or an importer-specific ad valorem assessment rate is zero or de minimis, Commerce will instruct CBP to liquidate appropriate entries without regard to antidumping duties.¹⁶ We intend to instruct CBP to liquidate entries containing subject merchandise exported by the PRC-wide entity at the PRC-wide rate.

¹³ See 19 CFR 351.212(b)(1).

¹⁴ See Antidumping Proceedings: Calculation of the Weighted Average Dumping Margin and Assessment Rate in Certain Antidumping Proceedings: Final Modification, 77 FR 8101 (February 14, 2012) (Final Modification).

¹⁵ See 19 CFR 351.212(b)(1).

¹⁶ See Final Modification, 77 FR at 8103.

Pursuant to Commerce practice, for entries that were not reported in the U.S. sales database submitted by an exporter individually examined during this review, Commerce will instruct CBP to liquidate such entries at the rate for the PRC-wide entity.¹⁷ Additionally, if Commerce determines that an exporter under review had no shipments of the subject merchandise, any suspended entries that entered under that exporter's CBP case number will be liquidated at the rate for the PRC-wide entity.

¹⁷ See Non-Market Economy Antidumping Proceedings: Assessment of Antidumping Duties, 76 FR 65694 (October 24, 2011), for a full discussion of this practice.

In accordance with section 751(a)(2)(C) of the Act, the final results of this review shall be the basis for the assessment of antidumping duties on POR entries, and for future deposits of estimated antidumping duties, where applicable.

Cash Deposit Requirements

Commerce will instruct CBP to require a cash deposit for antidumping duties equal to the weighted-average amount by which NV exceeds U.S. price. The following cash deposit requirements will be effective upon publication of the final results of this administrative review for shipments of the subject merchandise from China entered, or withdrawn from warehouse, for consumption on or after the publication date of this notice, as provided by section 751(a)(2)(C) of the Act: (1) For the exporters listed above, the cash deposit rate will be equal to the weighted-average dumping margin established in the final results of this review (except, if the rate is de minimis (i.e., less than 0.5 percent), then the cash deposit rate will be zero for that exporter), adjusted, where appropriate, for export subsidies and domestic subsidies passed through; (2) for previously investigated or reviewed China and non-China exporters not listed above that have separate rates, the cash deposit rate will continue to be the exporter-specific rate published for the most recently completed segment of this proceeding; (3) for all China exporters of subject merchandise which have not been found to be entitled to a separate rate, the cash deposit rate will be the rate for the China-wide entity (i.e., 76.46 percent) ¹⁸ and (4) for all non-China exporters of subject merchandise that have not received their own rate, the cash deposit rate will be the rate applicable to the China exporter that supplied that non-China exporter. These deposit requirements, when imposed, shall remain in effect until further notice.

¹⁸ See Order, 80 FR 47904.

Notification to Importers

This notice also serves as a reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties has occurred, and the subsequent assessment of double antidumping duties and/or an increase in the amount of antidumping duties by the amount of the countervailing duties.

Notifications to Interested Parties

This notice serves as the only reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

We are issuing and publishing these results of review in accordance with sections 751(a)(1) and 777(i)(1) of the Act.

Dated: March 9, 2018.
Gary Taverman,
Deputy Assistant Secretary for Antidumping and Countervailing Duty Operations, performing the non-exclusive functions and duties of the Assistant Secretary for Enforcement and Compliance.

Appendix I

List of Topics Discussed in the Issues and Decision Memorandum

I. Summary

II. Background

III. Scope of the Order

IV. Discussion of the Issues:

Comment 1: Whether To Apply Adverse Facts Available (AFA) to Sentury

Comment 2: Whether Commerce Should Grant Sentury a Double-Remedies Adjustment

Comment 3: Whether Commerce Should Revise how It Implements Any Double-Remedy Adjustment

Comment 4: Whether Commerce Should Revise Its Calculation of the Irrecoverable Value Added Tax (VAT) Adjustment to U.S. Price

Comment 5: Whether Commerce Should Correct Sentury's Reporting of Early Payments (EARLPYU)

Comment 6: Whether Commerce Should Re-Calculate Giti's Market Economy Purchase (MEP) Values and Volumes

Comment 7: Whether Commerce Should Change the Thai Harmonized Tariff Schedule (HTS) Codes Used for Two Giti Compound Rubber Inputs

Comment 8: Whether Commerce Should Re-Calculate Certain Surrogate Values Used for Giti in the Preliminary Results

Comment 9: Whether Commerce Should Correct Giti's Packing Labor Calculation

Comment 10: Whether Commerce Should Value Truck Freight Based on the World Bank's Doing Business Report

Comment 11: Whether Commerce Should Grant Separate Rate Status to Shandong Hongsheng Rubber Co. Ltd. (Hongsheng), Qingdao Yongdao, International Trade Co. Ltd. (Yongdao), and Poplar Tire International Co. Ltd. (Poplar)

Comment 12: Whether Commerce Should Grant Separate Rate Status to Shandong Yongtai Group Co., Ltd. (Yongtai Group) and Shandong Yongtai Chemical Co., Ltd. (Yongtai Chemical)

Comment 13: Whether Commerce Should Grant Separate Rate Status to Pirelli Tyre Co., Ltd. (Pirelli)

V. Conclusion

Appendix II

List of Companies Not Receiving Separate Rate Status

1. American Pacific Industries, Inc.

2. BC Tyre Group Limited

3. Best Choice International Trade Co., Limited

4. Cheng Shin Tire & Rubber (China) Co., Ltd.

5. Guangzhou Pearl River Rubber Tyre Ltd.

6. Hebei Tianrui Rubber Co., Ltd.

7. Hong Kong Tri-Ace Tire Co., Limited

8. Hwa Fong Rubber (Hong Kong) Ltd.

9. ITG Voma Corporation

10. Nankang International Co., Ltd.

11. Nankang Rubber Tire Corp., Ltd.

12. Pirelli Tyre Co., Ltd.

13. Qingdao Goalstar Tire Co., Ltd.

14. Qingdao Nexen Tire Corporation

15. Qingdao Qianzhen Tyre Co., Ltd.

16. Qingdao Qihang Tyre Co., Ltd.

17. Qingdao Qizhou Rubber Co., Ltd.

18. Shandong Changhong Rubber Tech

19. Shandong Good Forged Alum Wheel

20. Shandong Haohua Tire Co., Ltd.

21. Shandong Haolong Rubber Tire Co., Ltd.

22. Shandong Huitong Tyre Co., Ltd.

23. Shandong Sangong Rubber Co., Ltd.

24. Shangong Ogreen International Trade Co., Ltd.

25. Shifeng Juxing Tire Co., Ltd.

26. Southeast Mariner International Co., Ltd.

27. Toyo Tire (Zhangjiagang) Co., Ltd.

28. Wanli Group Trade Limited

29. Xiamen Sunrise Wheel Group Co., Ltd.

30. Xiamen Topu Import

31. Zhejiang Jingu Company Limited

32. Zhejiang Qingda Rubber Co., Ltd.

[FR Doc. 2018-05376 Filed 3-15-18; 8:45 am]

BILLING CODE 3510-DS-P